DEPARTMENT OF TRANSPORTATION

Federal Highway Administration

Termination of Environmental Review Process Cities of Chesapeake and Virginia Beach, VA

AGENCY: Federal Highway Administration (FHWA), DOT.

ACTION: Termination of environmental review process for Southeastern Parkway and Greenbelt.

SUMMARY: The FHWA is issuing this notice to advise the public that the environmental review process for proposed Southeastern Parkway and Greenbelt in the Cities of Chesapeake and Virginia Beach, Virginia, is terminated.

FOR FURTHER INFORMATION CONTACT: Mr. Edward Sundra, Planning and Environment Team Leader, FHWA Virginia Division Office, (804) 775-3320, Edward.Sundra@dot.gov, 400 North 8th Street, Suite 750, Richmond, VA 23219-4825. Sharon Vaughn-Fair, Assistant Chief Counsel, FHWA Eastern Legal Services Division, (410) 962-2544, Sharon.Vaughn-Fair@dot.gov, 10 S. Howard Street, Suite 4000, Baltimore, MD 21201. Office hours are from 7:45 a.m. to 4:15 p.m., e.t., Monday through Friday, except Federal holidays.

SUPPLEMENTARY INFORMATION: Electronic Access:

An electronic copy of this notice may be downloaded from the Office of the Federal Register's home page at http://www.archives.gov and the Government Printing Office's Web site at http://www.access.gpo.gov.

Background:

The FHWA is terminating the environmental review process for the proposed Southeastern Parkway and Greenbelt. This notice terminates the environmental process that began when the notice of intent was published in the Federal Register on Wednesday December 24, 2003, at 68 FR 74698. A Draft Environmental Impact Statement (EIS) was prepared for this project and a Notice of Availability was published in the Federal Register on June 10, 2005, at 70 FR 33901.

The identified preferred alternative for the proposed project would result in a net wetland loss of over 170 acres. There is significant resource agency opposition to the proposed project. The United States Army Corps of Engineers have expressed serious concern in their July 22, 2005, comment letter on the Draft EIS and in subsequent coordination meetings. An Environmentally Unsatisfactory rating was issued by the United States Environmental Protection Agency (EPA) on July 29, 2005. In a February 11, 2009, letter to FHWA, EPA stated that “even the best mitigation may not be able to adequately compensate for the environmental harm expected.”

Following further coordination with the appropriate resource agencies, FHWA has concluded that, pursuant to 23 CFR 771.133, it has no reasonable assurance that the requirements of Section 404 of the Clean Water Act can be met for the project as proposed. Therefore a determination has been made thereby to terminate the environmental review process.

Authority: 23 CFR 771.133.

Issued on: November 10, 2010.
Victor M. Mendez,
Administrator.

[FR Doc. 2010-28880 Filed 11-16-10; 8:45 am]

BILLING CODE 4910-22-P